DEPARTMENT OF JUSTICE

Drug Enforcement Administration

Manufacturer of Controlled Substances; Notice of Registration

By Notice dated June 7, 2002, and published in the Federal Register on June 20, 2002, (67 FR 42059), National Center for Development of Natural Products, The University of Mississippi, 135 Coy Waller Lab Complex, University, Mississippi 38677, made application by renewal to the Drug Enforcement Administration (DEA) to be registered as a bulk manufacturer of the controlled substances listed below:

Drug | Schedule
Marihuana (7360) | I
Tetrahydrocannabinols (7370) | I

The firm plans to bulk manufacture for product development.

No comments or objections have been received. DEA has considered the factors in Title 21, United States Code, section 823(a) and determined that the registration of National Center for Development of Natural Products to manufacture the listed controlled substances is consistent with the public interest at this time. This determination was based on, among other things, DEA's on-site investigation of the National Center for Development for Natural Products. The investigation included inspection and testing of the applicant's qualifications and experience, verification of the applicant's compliance with state and local laws, and a review of the firm's background and history. DEA has further determined that the registration will be consistent with United States obligations under international treaties. Therefore, pursuant to 21 U.S.C. 823 and 28 CFR 0.100 and 0.104, the Deputy Assistant Administrator, Office of Diversion Control, hereby orders that the application submitted by the above firm for registration as a bulk manufacturer of the basic classes of controlled substances listed above is granted.

Dated: December 13, 2002.
Laura M. Nagel,
Deputy Assistant Administrator, Office of Diversion Control, Drug Enforcement Administration.

[FR Doc. 03-767 Filed 1-14-03; 8:45 am]

BILLING CODE 4410-09-M